DEPARTMENT OF COMMERCE

Foreign-Trade Zones Board

[B-25-2026]

Foreign-Trade Zone (FTZ) 214, Notification of Proposed Production Activity; Aprinnova LLC; (Cosmetic Products); Leland, North Carolina

Aprinnova LLC submitted a notification of proposed production activity to the FTZ Board (the Board) for its facility in Leland, North Carolina within FTZ 214. The notification conforming to the requirements of the Board's regulations (15 CFR 400.22) was received on February 26, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include squalane, Hydrogenated Poly (C6-20 Olefin), and Hydrogenated Difarnesene (duty rates are duty-free).

The proposed foreign-status materials/components are Farnesene (duty rate is duty-free).

The request indicates that the component is subject to duties under section 122 of the Trade Act of 1974 (Section 122) and section 301 of the Trade Act of 1974 (section 301), depending on the country of origin. The applicable section 122 and section 301 decisions require subject merchandise to be admitted to FTZs in privileged foreign (PF) status (19 CFR 146.41).

Public comment is invited from interested parties. Submissions shall be addressed to the Board's Executive Secretary and sent to: ftz@trade.gov. The closing period for their receipt is April 13, 2026.

A copy of the notification will be available for public inspection in the “Online FTZ Information System” section of the Board's website.

For further information, contact Christopher Williams at christopher.williams@trade.gov.

Dated: February 27, 2026.
Elizabeth Whiteman,
Executive Secretary.

[FR Doc. 2026-04188 Filed 3-2-26; 8:45 am]

BILLING CODE 3510-DS-P